DEPARTMENT OF THE INTERIOR

Bureau of Indian Affairs

25 CFR Part 151

[Docket ID: BIA 2014-0002; K00103 12/13 A3A10; 134D0102DR-DS5A300000-DR.5A311.IA000113]

RIN 1076-AF23

Land Acquisitions in the State of Alaska

AGENCY: Bureau of Indian Affairs, Interior.

ACTION: Proposed rule; extension of comment period.

SUMMARY: The Bureau of Indian Affairs (BIA) is extending the comment period on the proposed rule for land acquisitions in Alaska, which was published in the Federal Register on May 1, 2014. The original comment period would end June 30, 2014; however, the BIA has received several requests for extension. BIA has reviewed these requests and determined that a 30-day extension is appropriate.

DATES: Comments on this rule must be received by the extended due date of July 31, 2014.

ADDRESSES: You may submit comments by any of the following methods:

—Federal rulemaking portal: http://www.regulations.gov. The rule is listed under the agency name “Bureau of Indian Affairs.” The rule has been assigned Docket ID: BIA-2014-0002.

—Email: consultation@bia.gov. Include the number 1076-AF23 in the subject line of the message.

—Mail: Elizabeth Appel, Office of Regulatory Affairs & Collaborative Action, U.S. Department of the Interior, 1849 C Street NW., Washington, DC 20240. Include the number 1076-AF23 in the submission.

—Hand delivery: Elizabeth Appel, Office of Regulatory Affairs & Collaborative Action, U.S. Department of the Interior, 1849 C Street NW., Washington, DC 20240. Include the number 1076-AF23 in the submission.

We cannot ensure that comments received after the close of the comment period (see DATES) will be included in the docket for this rulemaking and considered. Comments sent to an address other than those listed above will not be included in the docket for this rulemaking.

Comments on the information collections contained in this proposed regulation are separate from those on the substance of the rule. Send comments on the information collection burden to OMB by facsimile to (202) 395-5806 or email to the OMB Desk Officer for the Department of the Interior at OIRA_Submission@omb.eop.gov. Please send a copy of your comments to the person listed in the FOR FURTHER INFORMATION CONTACT section of this notice.

FOR FURTHER INFORMATION CONTACT: Elizabeth Appel, Director, Office of Regulatory Affairs & Collaborative Action, (202) 273-4680; elizabeth.appel@bia.gov.

SUPPLEMENTARY INFORMATION: BIA published a proposed rule on land acquisitions in Alaska on May 1, 2014 (79 FR 24648). This proposed rule would delete a provision in the Department of the Interior's land-into-trust regulations that excludes from the scope of the regulations, with one exception, land acquisitions in trust in the State of Alaska. Since publication of the proposed rule, BIA has received several requests to extend the comment period. Accordingly, to provide additional time for review and comment on the proposed rule, BIA is extending its original 60-day comment period by an additional 30 days.

Dated: June 24, 2014.
Kevin K. Washburn,
Assistant Secretary—Indian Affairs.

[FR Doc. 2014-15312 Filed 6-30-14; 8:45 am]

BILLING CODE 4310-6W-P